DEPARTMENT OF HEALTH AND HUMAN SERVICES

National Institutes of Health

National Institute of Allergy and Infectious Diseases; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commerical property such as patentable material, and personal information concerning individuals associated with the grant applications, the disclosure of which would constitute a clearly unwarranted invasion of personal privacy.

Name of Committee: National Institute of Allergy and Infectious Diseases Special Emphasis Panel, Integrated Preclinical/Clinical AIDS Vaccine Development (IPCAVD).

Date: February 15, 2006.

Time: 1 p.m. to 5 p.m.

Agenda: To review and evaluate cooperative agreement applications.

Place: National Institutes of Health, 6700B Rockledge Drive, Room 3129, Bethesda, MD 20892, (Telephone Conference Call).

Contact Person: Eleazar Cohen, PhD, Scientific Review Administrator, Scientific Review Program, Division of Extramural Activities, NIAID/NIH/DHHS, Room 3129, 6700 B Rockledge Drive, Bethesda, MD 20892, (301) 435-3564, ec17w@nih.gov.

Name of Committee: National Institute of Allergy and Infectious Diseases Special Emphasis Panel, Units for HIV/AIDS Clinical Trials Network (2).

Date: February 15, 2006.

Time: 12 p.m. to 6 p.m.

Agenda: To review and evaluate cooperative agreement applications.

Place: National Institutes of Health, Rockledge 6700, 6700B Rockledge Drive, Room 1202, Bethesda, MD 20817, (Telephone Conference Call).

Contact Person: Kenneth E. Santora, PhD, Scientific Review Administrator, Scientific Review Program, Division of Extramural Activities, NIH/NIAID/DHHS, 6700B Rockledge Drive, MSC 7616, Bethesda, MD 20892-7616, (301) 496-2550, ks216i@nih.gov.

Name of Committee: National Institute of Allergy and Infectious Diseases Special Emphasis Panel, Units for HIV/AIDS Clinical Trials Network (8).

Date: February 16, 2006.

Time: 9 a.m. to 4 p.m.

Agenda: To review and evaluate cooperative agreement applications.

Place: National Institutes of Health, Rockledge 6700, 6700B Rockledge Drive, Bethesda, MD 20817, (Telephone Conference Call).

Contact Person: Brenda Lange-Gustafson, PhD, Scientific Review Administrator, NIAID, DEA, Scientific Review Program, Room 2217, 6700-B Rockledge Drive, MSC-7616, Bethesda, MD 20892-7616, (301) 496-2550, bgustafson@niaid.nih.gov.

Name of Committee: National Institute of Allergy and Infectious Diseases Special Emphasis Panel, Unit for HIV/AIDS Clinical Trials Network (14)-ZAL1-TP-A-M3.

Date: February 17, 2006.

Time: 10 a.m. to 4 p.m.

Agenda: To review and evaluate cooperative agreement applications.

Place: National Institutes of Health, 6700 B, Rockledge Drive, 3143, Bethesda, MD 20892, (Telephone Conference Call).

Contact Person: Thames E. Pickett, PhD, Scientific Review Administrator, Scientific Review Program, Division of Extramural Activities, NIH/NIAID/DHHS, 6700B Rockledge Drive, MSC 7616, Bethesda, MD 20892-7616, 301-496-2550, pickettte@niaid.nih.gov.

Name of Committee: National Institute of Allergy and Infectious Diseases Special Emphasis Panel, Units for HIV/AIDS Clinical Trials Network (Sep 10).

Date: February 21, 2006.

Time: 12 p.m. to 6 p.m.

Agenda: To review and evaluate cooperative agreement applications.

Place: National Institutes of Health, Rockledge 6700, 6700B Rockledge Drive, Bethesda, MD 20817, (Telephone Conference Call).

Contact Person: Darren D Sledjeski, PhD, Scientific Review Administrator, NIAID, DEA, Scientific Review Program, Room 3253, 6700B Rockledge Drive, MSC-7616, Bethesda, MD 20892-7616, 301-451-2638.

(Catalogue of Federal Domestic Assistance Program Nos. 93.855, Allergy, Immunology, and Transplantation Research; 93.856, Microbiology and Infectious Diseases Research, National Institutes of Health, HHS)

Dated: January 18, 2006.
Anna Snouffer,
Acting Director, Office of Federal Advisory Committee Policy.

[FR Doc. 06-693 Filed 1-24-06; 8:45 am]

BILLING CODE 4140-01-M